DEPARTMENT OF THE INTERIOR

Bureau of Land Management

[ID-930-1060-JJ]

Notice of Public Hearing; Boise, ID

AGENCY: Bureau of Land Management, Idaho State Office, Interior.

ACTION: Notice of public hearing.

SUMMARY: A public hearing will be held at the Lower Snake River District, Bureau of Land Management, Boise, Idaho, to receive statements concerning the use of helicopters and motor vehicles in wild horse gathering operations within Idaho for calendar year 2002.

Date and Time: Tuesday, July 9, 2002, 6 p.m. to 8 p.m. Location: Lower Snake River District, Bureau of Land Management, 3948 Development Ave., Boise, Idaho, 83705.

FOR FURTHER INFORMATION CONTACT: Kent Benson, Range Technician/Wild Horse and Burro Specialist, Upper Snake River District, Bureau of Land Management, 15 East 200 South, Burley, Idaho 83318, or e-mail at Kent Benson@blm.gov, or Jon Foster, Branch Chief Resources and Sciences, Idaho State Office, 1387 South Vinnell Way, Boise, Idaho 83709, or e-mail at Jon_Foster@blm.gov.

SUPPLEMENTARY INFORMATION: The hearing will allow interested persons to make oral statements concerning the use of helicopters and motor vehicles during wild horse gathering operations in Idaho, consistent with requirements for a public hearing described in 43 CFR 4840.1(b). All statements will be recorded.

Dated: May 8, 2002.
Fritz Rennebaum,
Acting State Director, Bureau of Land Management, Idaho.

[FR Doc. 02-14394 Filed 6-6-02; 8:45 am]

BILLING CODE 4310-GG-P